DEPARTMENT OF ENERGY

Biomass Research and Development Technical Advisory Committee

AGENCY: Department of Energy, Office of Energy Efficiency and Renewable Energy.

ACTION: Notice of open meeting.

SUMMARY: This notice announces an open meeting of the Biomass Research and Development Technical Advisory Committee under Section 9008(d) of the Food, Conservation, and Energy Act of 2008. The Federal Advisory Committee Act requires that agencies publish these notices in the Federal Register to allow for public participation. This notice announces the meeting of the Biomass Research and Development Technical Advisory Committee.

DATES: December 15, 2010 at 8 a.m.-5:15 p.m. EDT

ADDRESSES: Williamsburg Room (104-A), USDA Whitten Building, 1400 Independence Ave., SW., Washington, DC 20250.

FOR FURTHER INFORMATION CONTACT: Laura McCann, Designated Federal Officer for the Committee, Office of Energy Efficiency and Renewable Energy, U.S. Department of Energy, 1000 Independence Avenue, SW., Washington, DC 20585, (202) 586-7766, laura.mccann@ee.doe.gov; or Chrissy Fagerholm, (202) 586-2933, Christina.Fagerholm@ee.doe.gov.

SUPPLEMENTARY INFORMATION: Purpose of Meeting: To provide advice and guidance that promotes research and development leading to the production of biobased fuels and biobased products.

Tentative Agenda: Agenda will include the following:

• Update on USDA Biomass R&D Activities.

• Update on DOE Biomass R&D Activities.

• Presentation from the National Alliance for Advanced Biofuels and Bioproducts. (NAABB) Algae Consortium.

• Presentation on the Knowledge Discovery Framework.

• Presentation on USDA sustainability findings.

Public Participation: In keeping with procedures, members of the public are welcome to observe the business of the Biomass Research and Development Technical Advisory Committee. To attend the meeting and/or to make oral statements regarding any of the items on the agenda, you must contact Laura McCann at 202-586-7766; E-mail: laura.mccann@ee.doe.gov or Chrissy Fagerholm at (202) 586-2933; E-mail: Christina.Fagerholm@ee.doe.gov at least 5 business days prior to the meeting. Please note that this meeting will be held in a Federal building, and therefore a photo ID and advance notice will be required to enter. Members of the public will be heard in the order in which they sign up at the beginning of the meeting. Reasonable provision will be made to include the scheduled oral statements on the agenda. The Chair of the Committee will make every effort to hear the views of all interested parties. If you would like to file a written statement with the Committee, you may do so either before or after the meeting. The Chair will conduct the meeting to facilitate the orderly conduct of business.

Minutes: The minutes of the meeting will be available for public review and copying at http://www.brdisolutions.com/publications/default.aspx#meetings.

Issued at Washington, DC, on November 24, 2010.
Rachel Samuel,
Deputy Committee Management Officer.

[FR Doc. 2010-30070 Filed 11-29-10; 8:45 am]

BILLING CODE 6450-01-P